GENERAL SERVICES ADMINISTRATION

[Notice-MA-2016-03; Docket No. 2016-0002, Sequence No. 12]

Federal Travel Regulation (FTR); Relocation Allowances—Requirement To Report Agency Payments for Relocation

AGENCY: Office of Government-wide Policy (OGP), General Services Administration (GSA).

ACTION: Notice of a bulletin.

SUMMARY: The purpose of this notice is to inform agencies that FTR Bulletin 16-04, pertaining to the Requirement to Report Agency Payments for Relocation, is now available online at www.gsa.gov/ftrbulletin.

DATES: Effective: June 2, 2016.

FOR FURTHER INFORMATION CONTACT: Mr. Rick Miller, Office of Asset and Transportation Management (MA), Office of Government-wide Policy, GSA, at 202-501-3822 or via email at rodney.miller@gsa.gov. Please cite FTR Bulletin 16-04.

SUPPLEMENTARY INFORMATION: Under 5 U.S.C. 5707(c), as implemented in the Federal Travel Regulation, Part 300-70, Subpart A—Requirement To Report Agency Payments for Employee Travel and Relocation, the Administrator of General Services is required to collect data on total agency payments for travel, transportation, and relocation expenses every year. This bulletin provides guidance to agencies that spent more than $5 million on travel and transportation payments, including relocation costs, and the requirement procedures to report the data to GSA. FTR Bulletin 16-04 and all other FTR Bulletins can be found at www.gsa.gov/ftrbulletin.

Troy Cribb,
Associate Administrator, Office of Government-wide Policy.

[FR Doc. 2016-12888 Filed 6-1-16; 8:45 am]

BILLING CODE 6820-14-P